DEPARTMENT OF ENERGY

Federal Energy Regulatory Commission

Combined Notice of Filings #1

Take notice that the Commission received the following electric rate filings:

Docket Numbers: ER10-2566-003; ER10-2034-003; ER10-2033-004; ER10-2032-004; ER10-1760-003; ER10-1758-003; ER11-2079-003; ER11-2064-003; ER11-2069-002; ER11-2066-003; ER10-1329-003; ER12-1502-002; ER12-1504-002; ER10-1330-003; ER10-1328-001; ER10-2567-002; ER10-1331-001; ER10-1332-001; ER10-2522-002; ER11-2080-001; ER10-1333-001; ER10-1335-001; ER10-1325-001.

Applicants: Duke Energy Carolinas, LLC, Duke Energy Indiana, Inc. Duke Energy Ohio, Inc., Duke Energy Kentucky, Inc., Carolina Power & Light Company, Florida Power Corporation, Duke Energy Fayette II, LLC, Duke Energy Hanging Rock II, LLC, Duke Energy Lee II, LLC, Duke Energy Washington II, LLC, St. Paul Cogeneration, LLC, Ironwood Windpower, LLC, Cimarron Windpower II, LLC, North Allegheny Wind, LLC, Happy Jack Windpower, LLC, Kit Carson Windpower, LLC, Silver Sage Windpower, LLC, Three Buttes Windpower, LLC, Top of the World Wind Energy, LLC, Duke Energy Commercial Asset Management, Inc., Duke Energy Commercial Enterprises, Inc., Duke Energy Retail Sales, LLC, CinCap V, LLC.

Description: Notice of changes in status of Duke MBR Sellers.

Filed Date: 8/1/12.

Accession Number: 20120801-5197.

Comments Due: 5 p.m. ET 8/22/12.

Docket Numbers: ER12-2237-001.

Applicants: Dunkirk Power LLC.

Description: Refiled Motion to Hold Proceeding in Abeyance to be effective 9/11/2012.

Filed Date: 8/1/12.

Accession Number: 20120801-5127.

Comments Due: 5 p.m. ET 8/22/12.

Docket Numbers: ER12-2377-000.

Applicants: Entergy Arkansas, Inc.

Description: EAI Marketing Agreement to be effective 10/1/2012.

Filed Date: 8/1/12.

Accession Number: 20120801-5117.

Comments Due: 5 p.m. ET 8/22/12.

Docket Numbers: ER12-2378-000.

Applicants: Midwest Independent Transmission System Operator, Inc.

Description: 08-01-12 Annual CONE Filing to be effective 6/1/2013.

Filed Date: 8/1/12.

Accession Number: 20120801-5125.

Comments Due: 5 p.m. ET 8/22/12.

Docket Numbers: ER12-2379-000.

Applicants: Arizona Public Service Company.

Description: Cancellation of Arizona Public Service Company Service Agreement No. 311 to be effective 10/2/2012.

Filed Date: 8/1/12.

Accession Number: 20120801-5172.

Comments Due: 5 p.m. ET 8/22/12.

Docket Numbers: ER12-2380-000.

Applicants: Midwest Independent Transmission System Operator, Inc.

Description: 08-01-12 Schedule 10 16 17 to be effective 10/1/2012.

Filed Date: 8/1/12.

Accession Number: 20120801-5173.

Comments Due: 5 p.m. ET 8/22/12.

Docket Numbers: ER12-2381-000.

Applicants: MP2 Energy NE LLC.

Description: Market Based Rate Application to be effective 8/2/2012 and Affidavit of Jeff Starcher—Attachment C to Market Based Rate Application of ME2 Energy NE LLC.

Filed Date: 8/2/12.

Accession Number: 20120802-5000; 20120802-5031.

Comments Due: 5 p.m. ET 8/23/12.

Take notice that the Commission received the following electric reliability filings.

Docket Numbers: RD12-5-000.

Applicants: North American Electric Reliability Corporation.

Description: Petition of the North American Electric Reliability Corporation for Approval of an Interpretation to Reliability Standard CIP-002-4—Critical Cyber Asset Identification.

Filed Date: 8/1/12.

Accession Number: 20120801-5159.

Comments Due: 5 p.m. ET 8/22/12.

Docket Numbers: RD12-6-000.

Applicants: North American Electric Reliability Corporation.

Description: Petition of the North American Electric Reliability Corporation for Approval of an Interpretation to Reliability Standard CIP-004-4—Personnel and Training.

Filed Date: 8/1/12.

Accession Number: 20120801-5198.

Comments Due: 5 p.m. ET 8/22/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 2, 2012.
Nathaniel J. Davis, Sr.,
Deputy Secretary.

[FR Doc. 2012-19616 Filed 8-9-12; 8:45 am]

BILLING CODE 6717-01-P